DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 66 FR 39178-39179, dated July 27, 2001) is amended to restructure the Procurement and Grant Office, Office of Program Services, Centers for Disease Control and Prevention.

Section C-B, Organization and Functions, is hereby amended as follows:

Delete the functional statement for the Office of the Director (CA581), Procurement and Grants Office (CA58), and insert the following:

(1) Provides leadership and guidance in all areas of Procurement and Grants Office (PGO) activities; (2) provides technical and managerial direction for the development of CDC-wide policies, procedures, and practices in the acquisition, assistance, and materiel management areas; (3) participates with senior management in program planning, policy determinations, evaluations, and decisions for award, administration, and termination of contracts, purchase orders, grants, and cooperative agreements; (5) maintains a continuing review of CDC-wide acquisition, assistance management, and materiel management operations to assure adherence to laws, policies, procedures, and regulations; (6) maintains liaison with HHS, GSA, and other Federal agencies on acquisition, assistance, and materiel management policy, procedure, and operating matters; (7) provides administrative services and direction for budget, property, travel, and personnel of the PGO; (8) processes data for, and maintains, the contract information system for CDC and HHS; (9) provides technical and managerial direction for the development, implementation and maintenance of automated acquisition systems needs on a CDC-wide basis; (10) provides administrative support activities for training and development of all PGO employees; (11) operates CDC's Small and Disadvantaged Business Program and provides direction and support to various other socioeconomic programs encompassing the acquisition and assistance activities; (12) provides cost advisory support to acquisition and assistance activities with responsibility for initiating requests for audits and evaluations, and providing recommendations to contracting officer or grants management officer; (13) as required, participate in negotiations with potential contractors and grantees; (14) develops overhead rates for profit and nonprofit organizations, and provides professional advice on accounting and cost principles in resolving audit exceptions as they relate to acquisition and assistance processes; (15) provides information technology support with responsibility for planning, budgeting for, designing, developing, coordinating, monitoring, and implementing IT projects, activities and initiatives.

Delete the title and functional statement for the Cost Advisory Activity (CA5812).

Delete the functional statement for the Contracts Management Branch (Pittsburgh) (CA583) and insert the following:

(1) Plans, directs, and conducts the acquisition of non-personal services, research and development, studies, and data collection primarily for NIOSH through a variety of contractual mechanisms (competitive and non-competitive); (2) reviews statement of work from a management point of view for conformity to laws, regulations, and policies, and negotiates and issues contract awards; (3) provides continuing surveillance of financial and administrative aspects of acquisition supported activities to assure compliance with appropriate HHS and CDC policies; (4) gives technical assistance, where indicated, to improve the management of acquisition supported activities and responds to requests for management information from Office of Director, headquarters, regional staffs, NIOSH and the public; (5) performs contract and purchasing administrative activities including coordination and negotiation of contract modifications, reviewing and approving contractor billings, resolving audit findings, and performing close-out/termination activities; (6) assures that contractors' total performance is in accordance with contractual commitments; (7) provides leadership and guidance to NIOSH project officers and program officials; (8) provides leadership, direction, procurement options and approaches in developing specifications/statement of work and contract awards; (9) participates with top program management in program planning, policy determination, evaluation, and directions concerning acquisition strategies and execution; (10) maintain Branch's official contracts files; (11) maintains a close working relationship with NIOSH components in carrying out their missions; (12) establishes Branch goals, objectives, and priorities and assures their consistency and coordination with the overall objectives of PGO.

Delete the functional statement for the Materiel Management Branch (CA584) and insert the following:

(1) Implements CDC-wide policies, procedures, and criteria required to implement Federal and Departmental regulations governing materiel management and transportation management; (2) evaluates operations to determine procedural changes needed to maintain effective management; (3) provides technical assistance to other parts of CDC on matters pertaining to materiel management, transportation management, and agent cashier services; (4) develops, designs, and tests materiel management systems and procedures; (5) represents CDC on inter- and intradepartmental materiel and transportation management committees; (6) maintains liaison with the Department and other Federal agencies on materiel management and transportation and traffic management matters; (7) establishes Branch goals, objectives, and priorities and assures their consistency and coordination with the overall objectives of PGO.

Delete the titles and functional statements for the Stores and Personal Property Section (CA5842) and the Transportation Section (CA5843).

Delete the title and functional statement for the Program Acquisition Branch (Washington) (CA587) and insert the following:

Contracts Management Activity (Hyattsville) (CA587). (1) Plans, directs, and conducts the acquisition of non-personal services, research and development, studies, and data collection primarily for CDC/NCHS through a variety of contractual mechanisms (competitive and non-competitive); (2) reviews statements of work from a management point of view for conformity to laws, regulations, and policies, and negotiates and issues contract awards; (3) provides continuing surveillance of financial and administrative aspects of acquisition supported activities to assure compliance with appropriate HHS and CDC policies; (4) gives technical assistance, where indicated, to improve the management of acquisition supported activities and responds to requests for management information from Office of Director, headquarters, regional staffs, NCHS and the public; (5) performs contract administrative activities including coordination and negotiation of contract modifications, reviewing and approving contractor billings, resolving audit findings, and performing close-out/termination activities; (6) assures that contractors' total performance is in accordance with contractual commitments; (7) provides leadership and guidance to CDC/NCHS project officers and program officials; (8) provides leadership, direction, procurement options and approaches in developing specifications/statements of work and contract awards; (9) participates with top program management in program planning, policy determination, evaluation, and directions concerning acquisition strategies and execution; (10) maintains Activity's official contracts files; (11) maintains a close working relationship with NCHS in carrying out their missions; (12) establishes Activity goals, objectives, and priorities and assures their consistency and coordination with the overall objectives of PGO.

Delete the title and functional statement for the Contracts Management Branch (CA588) and insert the following:

Contracts Management Branch (Atlanta) (CA588). (1) Plans, directs, and conducts the acquisition of non-personal services, research and development, studies, and data collection for CDC through a variety of contractual mechanisms (competitive and non-competitive); (2) reviews statements of work from a management point of view for conformity to laws, regulations, and policies, and negotiates and issues contract awards; (3) provides continuing surveillance of financial and administrative aspects of acquisition supported activities to assure compliance with appropriate HHS and CDC policies; (4) gives technical assistance, where indicated, to improve the management of acquisition supported activities and responds to requests for management information from Office of the Director, headquarters, regional staffs, Centers, Institute and Offices (CIOs) and the public; (5) plans, directs, and conducts the acquisition of commodities and equipment for CDC through a variety of contractual mechanisms; (6) plans, directs, and conducts the acquisition of information technology products and services for CDC through a variety of contractual and purchasing mechanisms; (7) performs contract and purchasing administrative activities including coordination and negotiation of contract modifications, reviewing and approving contractor billings, resolving audit findings, and performing close-out/termination activities; (8) assures that contractors' total performance is in accordance with contractual commitments; (9) provides leadership and guidance to CDC project officers and program officials; (10) provides leadership, direction, procurement options and approaches in developing specifications/statements of work and contract awards; (11) provides training, consultation and advice to CDC field activities having purchasing authority; (12) participates with senior program management in program planning, policy determination, evaluation, and directions concerning acquisition strategies and execution; (13) maintains Branch's official contracts files; (14) maintains a close working relationship with CIOs and other CDC components in carrying out their missions; (15) establishes Branch goals, objectives, and priorities and assures their consistency and coordination with the overall objectives of PGO.

Delete in their entirety the titles and functional statements for Office of the Chief (CA5881), Services Section I (CA5882), Services Section II (CA5883), Services Section III (CA5884), IT Section (5885), and Facilities, Construction, Commodities, and Equipment Section (CA5886).

After the Contracts Management Branch (Atlanta) (CA588), insert the following:

Construction and Facilities Management Branch (HCA589). (1) Directs and controls acquisition planning activities to assure total program needs are addressed and procurements are conducted in a logical, appropriate, and timely sequence; (2) plans, directs, and conducts the acquisition of non-personal services, institutional support services, architect-engineering services, construction of new buildings, alterations and renovations, and commodities and equipment in support of CDC facilities, utilizing a wide variety of contract types and pricing arrangements; (3) provides leadership, direction, procurement options, and approaches in developing specifications/statements of work and contract awards; (4) performs contract and purchasing administrative activities including coordination and negotiation of contract modifications, reviewing and approving contractor billings, resolving audit findings, and performing close-out/termination activities; (5) assures that contractors' total performance is in accordance with contractual commitments; (6) provides leadership and guidance to CDC project officers and program officials; (7) participates with senior program management in program planning, policy determination, evaluation, and direction concerning acquisition strategies and execution; (8) plans, directs, and coordinates activities of the Branch; (9) maintains Branch's official contract files; (10) maintains a close working relationship with the Facilities Planning and Management Office and other CDC components in carrying out their missions; (11) establishes Branch goals, objectives, and priorities and assures their consistency and coordination with overall objectives of PGO.

International Contracts and Grants Branch (CA58A). (1) Plans, directs and conducts the acquisition of a wide variety of services, research and development, studies, data collection, equipment materials, and personal and nonpersonal services in support of CDC's international operations, utilizing a wide variety of contract types and pricing arrangements; (2) plans, directs and conducts assistance management activities for CDC's international programs; (3) provides leadership, direction, and acquisition options and approaches in developing specifications/statements of work and grants announcements; (4) participates with top program management in program planning, policy determination, evaluation and direction concerning acquisition and grants strategies and execution; (5) provides innovative problem-solving methods in the coordination on international procurement and grants for a wide range plan with partners in virtually all major domestic and international health agencies dealing with United Nations Foundation health priorities/issues to include resolution of matters with the Department of State; (6) executes contracts and grants in support of international activities; (7) provides business management oversight for contracts and assistance awards.

Dated: October 30, 2001.
David Fleming,
Deputy Director for Science and Public Health.

[FR Doc. 01-28014 Filed 11-7-01; 8:45 am]

BILLING CODE 4160-18-M